DEPARTMENT OF THE INTERIOR

Fish and Wildlife Service

50 CFR Part 17

[FF09E21000 FXES11110900000 212]

Endangered and Threatened Wildlife and Plants; Two Species Not Warranted for Listing as Endangered or Threatened Species

AGENCY: Fish and Wildlife Service, Interior.

ACTION: Notification of findings.

SUMMARY: We, the U.S. Fish and Wildlife Service (Service), announce findings that two species are not warranted for listing as endangered or threatened species under the Endangered Species Act of 1973, as amended (Act). After a thorough review of the best available scientific and commercial information, we find that it is not warranted at this time to list Hall's bulrush (Schoenoplectiella hallii) or triangle pigtoe (formerly Fusconaia lananensis). However, we ask the public to submit to us at any time any new information relevant to the status of any of the species mentioned above or their habitats.

DATES: The findings in this document were made on May 11, 2021.

ADDRESSES: Detailed descriptions of the bases for these findings are available on the internet at http://www.regulations.gov under the following docket numbers:

Species | Docket No.
Hall's bulrush | FWS-R3-ES-2020-0144
Triangle pigtoe | FWS-R2-ES-2020-0145

Supporting information used to prepare this finding is available by contacting the appropriate person as specified under FOR FURTHER INFORMATION CONTACT. Please submit any new information, materials, comments, or questions concerning this finding to the appropriate person, as specified under FOR FURTHER INFORMATION CONTACT.

FOR FURTHER INFORMATION CONTACT:

Species | Contact information
Hall's bulrush | Karen Herrington, Field Supervisor, Missouri Ecological Services Field Office, 573-234-2132, karen_herrington@fws.gov.
Triangle pigtoe | Debra Bills, Field Supervisor, Arlington Ecological Services Field Office, 817-277-1100 x22113, debra_bills@fws.gov.

If you use a telecommunications device for the deaf (TDD), please call the Federal Relay Service at 800-877-8339.

SUPPLEMENTARY INFORMATION:

Background

Under section 4(b)(3)(B) of the Act (16 U.S.C. 1531 et seq.), we are required to make a finding whether or not a petitioned action is warranted within 12 months after receiving any petition for which we have determined contains substantial scientific or commercial information indicating that the petitioned action may be warranted (“12-month finding”). We must make a finding that the petitioned action is: (1) Not warranted; (2) warranted; or (3) warranted but precluded. We must publish a notice of these 12-month findings in the Federal Register.

Summary of Information Pertaining to the Five Factors

Section 4 of the Act (16 U.S.C. 1533) and the implementing regulations at part 424 of title 50 of the Code of Federal Regulations (50 CFR part 424) set forth procedures for adding species to, removing species from, or reclassifying species on the Lists of Endangered and Threatened Wildlife and Plants (Lists). The Act defines “species” as any subspecies of fish or wildlife or plants, and any distinct population segment of any species of vertebrate fish or wildlife which interbreeds when mature. The Act defines “endangered species” as any species that is in danger of extinction throughout all or a significant portion of its range (16 U.S.C. 1532(6)), and “threatened species” as any species that is likely to become an endangered species within the foreseeable future throughout all or a significant portion of its range (16 U.S.C. 1532(20)). Under section 4(a)(1) of the Act, a species may be determined to be an endangered species or a threatened species because of any of the following five factors:

(A) The present or threatened destruction, modification, or curtailment of its habitat or range;

(B) Overutilization for commercial, recreational, scientific, or educational purposes;

(C) Disease or predation;

(D) The inadequacy of existing regulatory mechanisms; or

(E) Other natural or manmade factors affecting its continued existence.

These factors represent broad categories of natural or human-caused actions or conditions that could have an effect on a species' continued existence. In evaluating these actions and conditions, we look for those that may have a negative effect on individuals of the species, as well as other actions or conditions that may ameliorate any negative effects or may have positive effects.

We use the term “threat” to refer in general to actions or conditions that are known to or are reasonably likely to negatively affect individuals of a species. The term “threat” includes actions or conditions that have a direct impact on individuals (direct impacts), as well as those that affect individuals through alteration of their habitat or required resources (stressors). The term “threat” may encompass—either together or separately—the source of the action or condition or the action or condition itself. However, the mere identification of any threat(s) does not necessarily mean that the species meets the statutory definition of an “endangered species” or a “threatened species.” In determining whether a species meets either definition, we must evaluate all identified threats by considering the expected response by the species, and the effects of the threats—in light of those actions and conditions that will ameliorate the threats—on an individual, population, and species level. We evaluate each threat and its expected effects on the species, then analyze the cumulative effect of all of the threats on the species as a whole. We also consider the cumulative effect of the threats in light of those actions and conditions that will have positive effects on the species, such as any existing regulatory mechanisms or conservation efforts. The Secretary determines whether the species meets the definition of an “endangered species” or a “threatened species” only after conducting this cumulative analysis and describing the expected effect on the species now and in the foreseeable future.

The Act does not define the term “foreseeable future,” which appears in the statutory definition of “threatened species.” Our implementing regulations at 50 CFR 424.11(d) set forth a framework for evaluating the foreseeable future on a case-by-case basis. The term “foreseeable future” extends only so far into the future as the Service can reasonably determine that both the future threats and the species' responses to those threats are likely. In other words, the foreseeable future is the period of time in which we can make reliable predictions. “Reliable” does not mean “certain”; it means sufficient to provide a reasonable degree of confidence in the prediction. Thus, a prediction is reliable if it is reasonable to depend on it when making decisions.

It is not always possible or necessary to define foreseeable future as a particular number of years. Analysis of the foreseeable future uses the best scientific and commercial data available and should consider the timeframes applicable to the relevant threats and to the species' likely responses to those threats in view of its life-history characteristics. Data that are typically relevant to assessing the species' biological response include species-specific factors such as lifespan, reproductive rates or productivity, certain behaviors, and other demographic factors.

In conducting our evaluation of the five factors provided in section 4(a)(1) of the Act to determine whether Hall's bulrush meets the definition of “endangered species” or “threatened species,” we considered and thoroughly evaluated the best scientific and commercial information available regarding the past, present, and future stressors and threats. In conducting our taxonomic evaluation of triangle pigtoe, we determined that it does not meet the definition of a species or subspecies under the Act, and, as a result, we concluded that triangle pigtoe is not a listable entity. We reviewed the petitions, information available in our files, and other available published and unpublished information for both of these species. Our evaluation may include information from recognized experts; Federal, State, and Tribal governments; academic institutions; foreign governments; private entities; and other members of the public.

The species assessment form for Hall's bulrush contains more detailed biological information, a thorough analysis of the listing factors, a list of literature cited, and an explanation of why we determined that this species do not meet the definition of an endangered species or a threatened species. The species assessment form for triangle pigtoe contains more detailed taxonomic information, a list of literature cited, and an explanation of why we determined that this species does not meet the definition of a species or subspecies. This supporting information can be found on the internet at http://www.regulations.gov under the appropriate docket number (see ADDRESSES, above). The following are informational summaries for the findings in this document.

Hall's Bulrush

Previous Federal Actions

On April 20, 2010, the Service received a petition from the CBD to list 404 aquatic, riparian, and wetland species from the southeastern United States, including Hall's bulrush (Schoenoplectiella hallii), as endangered or threatened under the Act (CDB 2010, entire). On September 27, 2011, we published a 90-day finding (76 FR 59836) for 374 of the 404 petitioned species, including Hall's bulrush; that finding stated that the petition presented substantial information that listing Hall's bulrush may be warranted, due to the threats of present or threatened destruction, modification, or curtailment of the species' habitat or range; predation; inadequacy of existing regulatory mechanisms; and other natural or manmade factors, including pollution, global climate change, drought, invasive species, and synergies between multiple threats. The finding solicited information on, and initiated a status review for, the species.

Summary of Finding

Hall's bulrush is a tufted annual bulrush with a stem length ranging from 1.6 to 31 inches (4 to 80 centimeters). It is historically found across 14 States: Massachusetts, Georgia, Ohio, Kentucky, Michigan, Indiana, Wisconsin, Illinois, Iowa, Missouri, Nebraska, Kansas, Oklahoma, and Texas. Biologists have concluded the species has been extirpated from Georgia and Massachusetts.

Hall's bulrush requires multiple adequately timed seasonal flood events to break seed dormancy and to trigger germination. For a seed to germinate, it also needs bare soil, presence of ethylene, light, adequate temperature, and moist soil. Seedlings and mature plants need light, moist soil, space, nutrients, and pollination (mature plant only).

We have carefully assessed the best scientific and commercial information available regarding the past, present, and future threats to Hall's bulrush, and we evaluated all relevant factors under the five listing factors, including any regulatory mechanisms and conservation measures addressing these stressors and the cumulative impact of these stressors. The primary stressors affecting Hall's bulrush's biological status include habitat alteration, destruction, and conversion; hybridization; and grazing. Hall's bulrush has little population abundance information available across its range. The best available demographic data do not allow us to evaluate the ability of Hall's bulrush populations to withstand demographic stochastic events. Annual variation (in timing and duration) of rain events mean that Hall's bulrush populations are cyclic and dependent on water fluctuations. Therefore, we assessed the population status based on the condition of the habitat, including the presence of potential hybridizing plants. We made the assumption that healthy habitat, (i.e., higher habitat metric scores on the Environmental Protection Agency's Watershed Index Online tool and higher average scores of the Natural Resources Conservation Service depth to water table) will support a healthy population of Hall's bulrush.

Despite impacts from the primary stressors, the species has maintained populations throughout its range in multiple ecoregions. We anticipate sufficient quality and quantity of habitat to support the viability of the species for the foreseeable future. Hall's bulrush currently has healthy (moderately or highly resilient) populations across its range (32 extant populations across seven ecoregions). The species' representation among ecoregions has not changed significantly between the historical and most recent surveys. Hall's bulrush has retained redundancy (and we project it to be maintained into the future) based on multiple resilient populations being spread across its historical range in seven ecoregions. Based on these conditions, the Hall's bulrush current risk of extinction is very low. Although we predict some continued impacts from these stressors in the future, we anticipate the species will continue to maintain resilient populations into the foreseeable future throughout its range and that are distributed widely throughout each of its ecoregions (representative units). Therefore, we find that listing Hall's bulrush as an endangered species or threatened species under the Act is not warranted. A detailed discussion of the basis for this finding can be found in the Hall's bulrush species assessment form and other supporting documents (see ADDRESSES, above).

Triangle Pigtoe

Previous Federal Actions

On June 25, 2007, the Service received a petition dated June 18, 2007, from Forest Guardians (now WildEarth Guardians) requesting that the Service list 475 species, including the triangle pigtoe (formerly Fusconaia lananensis), as endangered or threatened species and designate critical habitat under the Act.

On December 16, 2009, the Service published a 90-day finding (74 FR 66866) on 192 of the 475 species and stated that the petition presented substantial scientific information indicating that listing may be warranted for 67 of the 192 species, including the triangle pigtoe. As a result, the Service initiated status reviews for all 67 species.

Summary of Finding

We have carefully assessed the best scientific and commercial information available regarding the triangle pigtoe and evaluated the petition's claims that the species warrants listing under the Act. Genetic and morphometric analyses indicate that the triangle pigtoe is synonymous with the wider-ranging Texas pigtoe (Fusconaia askewi). These studies have been accepted by the relevant scientific community, including NatureServe, the Freshwater Mollusk Conservation Society, Texas Parks and Wildlife Department, and the Service. Therefore, the triangle pigtoe is not a valid taxonomic entity; does not meet the definition of a species or subspecies under the Act; and, as a result, does not warrant listing under the Act. A detailed discussion of the basis for this finding can be found in the triangle pigtoe species assessment form and other supporting documents (see ADDRESSES, above).

New Information

We request that you submit any new information concerning the taxonomy of, biology of, ecology of, status of, or stressors to Hall's bulrush or triangle pigtoe to the appropriate person, as specified under FOR FURTHER INFORMATION CONTACT, whenever it becomes available. New information will help us monitor these species and make appropriate decisions about their conservation and status. We encourage local agencies and stakeholders to continue cooperative monitoring and conservation efforts.

References Cited

A list of the references cited in this petition finding is available on the internet at http://www.regulations.gov in the species assessment form or in the appropriate docket provided above in ADDRESSES and upon request from the appropriate person, as specified under FOR FURTHER INFORMATION CONTACT.

Authors

The primary authors of this document are the staff members of the Species Assessment Team, Ecological Services Program.

Authority

The authority for this action is section 4 of the Endangered Species Act of 1973, as amended (16 U.S.C. 1531 et seq.).

Martha Williams,
Principal Deputy Director, Exercising the Delegated Authority of the Director. U.S. Fish and Wildlife Service.

[FR Doc. 2021-09748 Filed 5-10-21; 8:45 am]

BILLING CODE 4333-15-P